DEPARTMENT OF HOMELAND SECURITY

Coast Guard

[Docket No. USCG-2021-0738]

National Maritime Security Advisory Committee

AGENCY: U.S. Coast Guard, Department of Homeland Security.

ACTION: Notice of Federal Advisory Committee teleconference meeting.

SUMMARY: The National Maritime Security Advisory Committee (Committee) will meet via teleconference, to review and discuss on matters relating to national maritime security, including on enhancing the sharing of information related to cybersecurity risks that may cause a transportation security incident, between relevant Federal agencies and (a) State, local, and tribal governments, (b) relevant public safety and emergency response agencies, (c) relevant law enforcement and security organizations, (d) maritime industry, (e) port owners and operators, and (f) terminal owners and operators. This teleconference will be open to the public.

DATES:

Meeting: The Committee will meet by teleconference on Thursday, October 28, 2021 from 1:00 p.m. until 3:00 p.m. Eastern Daylight Time (EDT). This teleconference may close early if all business is finished.

Comments and supporting documentation: To ensure your comments are received by Committee members before the teleconference, submit your written comments no later than October 15, 2021.

ADDRESSES: To join the teleconference or to request special accommodations, contact the individual listed in the FOR FURTHER INFORMATION CONTACT section no later than 1 p.m. EDT on October 15, 2021, to obtain the needed information. The number of teleconference lines are limited and will be available on a first-come, first-served basis.

For information on services for individuals with disabilities, or to request special assistance, contact the individual listed in FOR FURTHER INFORMATION CONTACT below as soon as possible.

Instructions: You are free to submit comments at any time, including orally at the teleconference as time permits, but if you want Committee members to review your comment before the teleconference, please submit your comments no later than October 15, 2021. We are particularly interested in comments on the issues in the “Agenda” section below. We encourage you to submit comments through Federal eRulemaking Portal at https://regulations.gov. If your material cannot be submitted using https://regulations.gov, call or email the individual in the FOR FURTHER INFORMATION CONTACT section of this document for alternate instructions. You must include the docket number USCG-2021-0738. Comments received will be posted without alteration at https://www.regulations.gov including any personal information provided. You may wish to view the Privacy and Security Notice available on the homepage of https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, 2703 Martin Luther King Jr. Avenue SE, Washington, DC 20593, Stop 7581, Washington, DC 20593-7581; telephone 202-302-6565 or email ryan.f.owens@uscg.mil.

SUPPLEMENTARY INFORMATION: Notice of this meeting is in compliance with the Federal Advisory Committee Act, (5, U.S.C., Appendix). The Committee was established on December 4, 2018, by § 601 of the Frank LoBiondo Coast Guard Authorization Act of 2018, Public Law 115-282, 132 Stat. 4190. The National Maritime Security Advisory Committee provides advice, consults with, and makes recommendations to the Secretary of Homeland Security, via the Commandant of the Coast Guard, on matters relating to national maritime security.

Agenda

(1) Call to Order.

(2) Introduction.

(3) Designated Federal Official Remarks.

(4) Roll call of Committee members and determination of quorum.

(5) Remarks from U.S. Coast Guard Senior Leadership.

(6) Swearing in of Committee Members.

(7) Election by Committee members of Chair and Vice-Chair.

(8) Presentation of tasks. The Coast Guard will present the following tasks and the Committee will determine if they will accept the tasks and form working groups:

a. Provide feedback on cyber vulnerability assessments that are being conducted within the industry.

b. Provide input to support further development of the Maritime Cyber Risk Assessment Model.

(9) Public comment period.

(10) Closing Remarks/plans for next meeting.

(11) Adjournment of meeting.

A copy of all meeting documentation will be available at https://homeport.uscg.mil/NMSAC by October 15, 2021. Alternatively, you may contact Mr. Ryan Owens as noted in the FOR FURTHER INFORMATION section above. There will be a public comment period at the end of the meeting. Speakers are requested to limit their comments to 3 minutes. Please note that the public comment period may end before the period allotted, following the last call for comments. Contact the individual listed in the FOR FURTHER INFORMATION CONTACT section above to register as a speaker.

Dated: September 23, 2021.
Wayne R. Arguin, Jr.,
Captain, U.S. Coast Guard, Director of Inspections and Compliance.

[FR Doc. 2021-21159 Filed 9-28-21; 8:45 am]

BILLING CODE 9110-04-P